DEPARTMENT OF HOMELAND SECURITY

U.S. Citizenship and Immigration Services

[CIS No. 2453-08; DHS Docket No. USCIS-2008-0030]

RIN 1615-ZA70

Direct Mail Program for Submitting Form I-800A, Application for Determination of Suitability To Adopt a Child From a Convention Country, and Form I-800, Petition To Classify Convention Adoptee as an Immediate Relative

AGENCY: U.S. Citizenship and Immigration Services, DHS.

ACTION: Notice.

SUMMARY: U.S. Citizenship and Immigration Services (USCIS) is expanding its Direct Mail Program to include Form I-800, Petition to Classify Convention Adoptee as an Immediate Relative, and Form I-800A, Application for Determination of Suitability to Adopt a Child from a Convention Country. Applicants must submit Forms I-800, I-800A, and all related supplements and forms to the USCIS Chicago Lockbox facility located in Illinois, for initial processing. Applicants were previously required to file at a USCIS field office with jurisdiction over their place of current residence. The Direct Mail Program allows USCIS to process applications more efficiently by eliminating duplicative work, maximizing staff productivity, and introducing better information management tools.

DATES: Effective September 25, 2008.

FOR FURTHER INFORMATION CONTACT: Lissette Kvortek, HQ Adjudications Officer, Office of Field Operations, U.S. Citizenship and Immigration Services, Department of Homeland Security, 20 Massachusetts Avenue, NW., Washington, DC 20529, Telephone (202) 272-1001.

I. Background

A. What is The Hague Adoption Convention?

The Convention on Protection of Children and Co-operation in Respect of Intercountry Adoption (Hague Adoption Convention) signed at The Hague, The Netherlands, on May 29, 1993, is a treaty that strengthens protections for children, birth parents, and prospective adoptive parent(s). It establishes internationally agreed upon rules and procedures for adoptions between countries that have a treaty relationship under the Hague Adoption Convention. It provides a framework for member countries to work together to ensure that children are provided with permanent, loving homes, that adoptions take place in the best interests of a child, and that the abduction, sale and trafficking in children is prevented. The President signed the instrument of ratification for the Hague Adoption Convention on November 16, 2007, and the Hague Adoption Convention entered into force for the United States on April 1, 2008. 72 FR 71730.

B. What is the Direct Mail Program?

Under the Direct Mail program, applicants for certain immigration benefits mail the designated application or petition directly to a U.S. Citizenship and Immigration Services (USCIS) Service Center or Lockbox facility instead of submitting it to their local USCIS office. USCIS has discussed the purpose and strategy of the Direct Mail program in detail in previous rules and notices. (See 59 FR 33903, 59 FR 33985, 60 FR 22408, 61 FR 2266, 61 FR 56060, 62 FR 16607, 63 FR 891, 63 FR 892, 63 FR 13434, 63 FR 13878, 63 FR 16828, 63 FR 50584, 63 FR 8688, 63 FR 8689, 64 FR 67323, 69 FR 3380, 69 FR 4210, 70 FR 30768, 72 FR 3402).

C. Which Hague Adoption Convention forms are affected by the Direct Mail Program?

You must now submit the following forms through the Direct Mail Program to our Chicago Lockbox facility for initial processing:

• Form I-800A, Application for Determination of Suitability to Adopt a Child from a Convention Country.

• Form I-800A Supplement 1, Listing of Adult Member of the Household.

• Form I-800A Supplement 2, Consent to Disclose Information.

• Form I-800A Supplement 3, Request for Action on Approved Form I-800A.

• Form I-800, Petition to Classify Convention Adoptee as an Immediate Relative.

• Form I-800 Supplement 1, Consent to Disclose Information.

Interested individuals may find detailed information and eligibility requirements for Form I-800A and I-800 and their supplements and forms at the USCIS Web site: http://www.uscis.gov.

D. Does this notice affect any other Hague related forms that I may submit along with those listed above?

Yes, it affects Form I-601, Application for Waiver of Grounds of Inadmissibility, Form I-864 and Form I-864EZ, Affidavit of Support under section 213A of the Act, or Form I-864W, Intending Immigrant's Affidavit of Support Exemption, when filed in connection with a Hague Adoption Convention case. When submitted with a Form I-800 these forms must be filed beginning on September 25, 2008 with the USCIS Chicago Lockbox facility address listed below.

II. Explanation of Changes

A. Does this notice make any changes relating to the eligibility of a prospective adoptive parent's suitability to adopt a child from a convention country or changes to the eligibility of a convention adoptee to be classified as an immediate relative?

No. This Notice only changes the filing location for these applications. These forms, previously filed at USCIS offices world-wide, will now be filed under the Direct Mail Program at the USCIS Chicago Lockbox facility for initial processing.

B. Should I file Forms I-600A and/or I-600 under the new Direct Mail Program?

No. If you reside in the United States continue to file Form I-600A, Application for Advance Processing of Orphan Petition and Form I-600, Petition to Classify Orphan as an Immediate Relative, with the local USCIS office with jurisdiction over your place of residence. If you live outside the United States, you should consult the nearest American consulate or embassy for the overseas or stateside USCIS office designated to act on the application.

C. Will USCIS change the form instructions to Forms I-800A and I-800?

Yes. USCIS is currently amending the filing locations on the instructions to Forms I-800A and I-800, as well as the procedures listed on the USCIS Web site to reflect the new filing address.

D. If I live outside of the United States, can I file the Forms I-800A or I-800 at a USCIS overseas office, or an American consulate or embassy?

No. You must file Forms I-800A and I-800 at the USCIS Chicago Lockbox facility. Although 8 CFR 204.308(b) provides that Form I-800 may be filed at the visa-issuing post when permitted in the form's instructions, centralized processing affords more efficiency for both USCIS and prospective adoptive parents. Accordingly, you will need to file the Form I-800 at the USCIS Chicago Lockbox facility for centralized processing. USCIS will no longer permit filing the form elsewhere.

E. To what address should I mail Forms I-800A, I-800, and related supplements and forms?

Beginning on September 25, 2008, you must file Forms I-800A, I-800 and their supplements with all supporting documentation to the following address:

U.S. Citizenship and Immigration Services,

P.O. Box 805695,

Chicago, IL 60680-4118.

If you are also filing Hague related Forms I-601, I-864, I-864EZ, or I-864W with Form I-800, you must also send these forms to the above Lockbox address.

F. What will happen to incorrectly filed Forms I-800A, I-800, and related supplements and forms covered by this notice?

USCIS will forward forms filed incorrectly to the USCIS Chicago Lockbox facility address ONLY for the first 30 days following the effective date of this notice, including the filing of Hague related Forms I-601, I-864, I-864EZ, or I-864W, which are covered by this notice.

After the 30-day transition period, USCIS will return any Form I-800 or I-800A, and related supplements and forms, mailed to a USCIS office other than the USCIS Chicago Lockbox facility address to the applicant with an explanation directing the applicant to mail the application directly to the USCIS Chicago Lockbox facility address for processing.

G. Will the fees change with this notice?

No. The application fees will remain the same as provided on the form instructions for Forms I-800A and I-800.

H. Paperwork Reduction Act

This rule does not impose any new reporting or recordkeeping requirements. The Office of Management and Budget (OMB) previously approved the use of these information collections. The OMB control numbers for Forms I-800 and I-800A are contained in 8 CFR 299.5, Display of control numbers. USCIS will provide the Office of Management and Budget (OMB) with a copy of the amended form and OMB 83C (Correction Worksheet) through the automated Regulatory Office Combined Information System (ROCIS).

Dated: July 21, 2008.
Jonathan R. Scharfen,
Acting Director, U.S. Citizenship and Immigration Services.

[FR Doc. E8-19723 Filed 8-25-08; 8:45 am]

BILLING CODE 9111-97-P